EXPORT-IMPORT BANK

[Public Notice: 2026-6001]

Agency Information Collection Activities: Submission to the Office of Management and Budget for Review and Approval; Comment Request; EIB 92-51, Application for Special Buyer Credit Limit (SBCL) Under Multi-Buyer Export Credit Insurance Policies

AGENCY: Export-Import Bank of the U.S.

ACTION: Submission for OMB review and comments request.

SUMMARY: The Export-Import Bank of the United States (EXIM Bank), as a part of its continuing effort to reduce paperwork and respondent burden, invites the public and other Federal Agencies to comment on the proposed information collection, as required by the Paperwork Reduction Act of 1995.

DATES: Comments must be received on or before March 23, 2026 to be assured of consideration.

ADDRESSES: Comments may be submitted electronically on WWW.REGULATIONS.GOV, by mail to Edward Coppola, Export-Import Bank of the United States, 811 Vermont Ave. NW, Washington, DC 20571, or by email to Edward.Coppola@exim.gov. The application can be reviewed at: https://img.exim.gov/s3fs-public/pub/pending/EIB+92-51_SBCL+Application_2026.pdf.

FOR FURTHER INFORMATION CONTACT: To request additional information, please contact Edward Coppola <Edward.Coppola@exim.gov>, 202-565-3717.

SUPPLEMENTARY INFORMATION: The Application for Special Buyer Credit Limit (SBCL) Under Multi-Buyer Export Credit Insurance Policies is used by policyholders, the majority of whom are U.S. small businesses, who export U.S. goods and services. This application provides EXIM Bank with the credit information on a foreign buyer credit limit request needed to make a determination of eligibility for EXIM Bank support in adherence to legislatively required reasonable reassurance of repayment and other statutory requirements.

Titles and Form Number: EIB 92-51, Application for Special Buyer Credit Limit (SBCL) Under Multi-Buyer Export Credit Insurance Policies.

OMB Number: 3048-0015.

Type of Review: Regular.

Need and Use: This application provides EXIM Bank with the credit information on a foreign buyer credit limit request needed to make a determination of eligibility for EXIM Bank support in adherence to legislatively required reasonable reassurance of repayment and other statutory requirements.

Affected Public: This form affects business entities involved in the export of U.S. goods and services. The estimated number of respondents and the annual hour burden was previously lowered to only count new applicants.

The Number of Respondents: 2,000.

Estimated Time per Respondents: 30 minutes.

The Frequency of Response: As needed.

Annual Hour Burden: 1,000 total hours.

Dated: January 14, 2026.
Andrew Smith,
Records Officer.

[FR Doc. 2026-00885 Filed 1-16-26; 8:45 am]

BILLING CODE 6690-01-P